DEPARTMENT OF ENERGY

Federal Energy Regulatory Commission

Combined Notice of Filings # 1

Take notice that the Commission received the following electric rate filings:

Docket Numbers: ER11-1831-001.

Applicants: Columbus Southern Power Company.

Description: Columbus Southern Power Company submits tariff filing per 35: CSP MBR Concurrence Compliance to be effective 10/8/2010.

Filed Date: 02/23/2011.

Accession Number: 20110223-5140.

Comment Date: 5 p.m. Eastern Time on Wednesday, March 16, 2011.

Docket Numbers: ER11-1833-001.

Applicants: Indiana Michigan Power Company.

Description: Indiana Michigan Power Company submits tariff filing per 35: 20110223 MBR Concurrence Compliance to be effective 10/8/2010.

Filed Date: 02/23/2011.

Accession Number: 20110223-5148.

Comment Date: 5 p.m. Eastern Time on Wednesday, March 16, 2011.

Docket Numbers: ER11-2860-001.

Applicants: Coyote Canyon Energy LLC.

Description: Coyote Canyon Energy LLC submits tariff filing per 35.17(b): FERC Electric Tariff Volume No.1 to be effective 4/11/2011.

Filed Date: 02/23/2011.

Accession Number: 20110223-5126.

Comment Date: 5 p.m. Eastern Time on Wednesday, March 16, 2011.

Docket Numbers: ER11-2922-000.

Applicants: El Segundo Power II LLC.

Description: El Segundo Power II LLC submits tariff filing per 35.1: El Segundo Power II LLC—Baseline Tariff to be effective 8/17/2010.

Filed Date: 02/16/2011.

Accession Number: 20110216-5136.

Comment Date: 5 p.m. Eastern Time on Wednesday, March 09, 2011.

Docket Numbers: ER11-2937-000.

Applicants: Champion Energy, LLC.

Description: Champion Energy, LLC submits tariff filing per 35.13(a)(2)(iii): Seller Category change to be effective 2/24/2011.

Filed Date: 02/23/2011.

Accession Number: 20110223-5040.

Comment Date: 5 p.m. Eastern Time on Wednesday, March 16, 2011.

Docket Numbers: ER11-2938-000.

Applicants: Champion Energy Services, LLC.

Description: Champion Energy Services, LLC submits tariff filing per 35.13(a)(2)(iii): Seller Category change to be effective 2/24/2011.

Filed Date: 02/23/2011.

Accession Number: 20110223-5048.

Comment Date: 5 p.m. Eastern Time on Wednesday, March 16, 2011.

Docket Numbers: ER11-2939-000.

Applicants: Champion Energy Marketing, LLC.

Description: Champion Energy Marketing, LLC submits tariff filing per 35.13(a)(2)(iii): Ancillary Services and Seller Category change to be effective 2/24/2011.

Filed Date: 02/23/2011.

Accession Number: 20110223-5051.

Comment Date: 5 p.m. Eastern Time on Wednesday, March 16, 2011.

Docket Numbers: ER11-2940-000.

Applicants: ConocoPhillips Company.

Description: ConocoPhillips Company submits tariff filing per 35.13(a)(2)(iii): Seller Category change to be effective 2/24/2011.

Filed Date: 02/23/2011.

Accession Number: 20110223-5062.

Comment Date: 5 p.m. Eastern Time on Wednesday, March 16, 2011.

Docket Numbers: ER11-2941-000.

Applicants: HL Power Company, LP.

Description: HL Power Company, LP submits tariff filing per 35.1: Amendment to Rate Schedule FERC No. 2 to be effective 2/23/2011.

Filed Date: 02/23/2011.

Accession Number: 20110223-5109.

Comment Date: 5 p.m. Eastern Time on Wednesday, March 16, 2011.

Docket Numbers: ER11-2943-000.

Applicants: Midwest Independent Transmission System Operator, Inc.

Description: Midwest Independent Transmission System Operator, Inc. submits tariff filing per 35.13(a)(2)(iii): G527 FCA Termination to be effective 4/25/2011.

Filed Date: 02/23/2011.

Accession Number: 20110223-5138.

Comment Date: 5 p.m. Eastern Time on Wednesday, March 16, 2011.

Take notice that the Commission received the following electric reliability filings

Docket Numbers: RD10-4-001.

Applicants: North American Electric Reliability Corporation.

Description: Compliance Filing of the North American Electric Reliability Corporation in Response to January 6, 2011 Order Approving NERC's November 20, 2009 Petition for Approval of Revisions to Withdraw MISO Waivers.

Filed Date: 02/22/2011.

Accession Number: 20110222-5222.

Comment Date: 5 p.m. Eastern Time on Tuesday, March 15, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: February 23, 2011.
Nathaniel J. Davis, Sr.,
Deputy Secretary.

[FR Doc. 2011-4711 Filed 3-2-11; 8:45 am]

BILLING CODE 6717-01-P